DEPARTMENT OF COMMERCE

National Oceanic and Atmospheric Administration

50 CFR Part 648

[I.D. 012401D]

Fisheries of the Northeastern United States; Supplemental Environmental Impact Statements (SEISs) for the Essential Fish Habitat (EFH) Components of the Northeast Multispecies Fishery Management Plan (FMP) and Atlantic Sea Scallop FMP

AGENCY: National Marine Fisheries Service (NMFS), National Oceanic and Atmospheric Administration (NOAA), Commerce.

ACTION: Notification of intent to prepare an SEIS; request for comments; notice of scoping meeting.

SUMMARY: NMFS announces its intent to prepare SEISs in accordance with the National Environmental Policy Act of 1969 (NEPA) for the EFH components for both the Northeast Multispecies FMP and Atlantic Sea Scallop FMP. NMFS will hold a public scoping meeting and accept written comments to determine the range of management alternatives to be addressed in the SEISs to describe and identify EFH, minimize to the extent practicable the adverse effects of fishing on EFH, and identify other actions to encourage the conservation and enhancement of EFH.

DATES: NMFS will accept written comments through March 5, 2001. A public scoping meeting will be held on Thursday, February 22, 2001.

ADDRESSES: Written comments on the intent to prepare the SEISs and requests for the scoping document or other information should be directed to the National Marine Fisheries Service, 1 Blackburn Drive, Gloucester, MA 01930, Attn: Louis A. Chiarella. Telephone (978) 281-9277. Comments may also be sent via facsimile (fax) to (978) 281-9301. NMFS will not accept comments by e-mail. The public meeting will be held at the NMFS Northeast Regional Office, 1 Blackburn Drive, Gloucester, MA on February 22, 2001, 3:00- 5:00 p.m.

FOR FURTHER INFORMATION CONTACT: Louis A. Chiarella, Essential Fish Habitat Coordinator, (Lou.Chiarella@noaa.gov), (978) 281-9277, fax (978) 281-9301.

SUPPLEMENTARY INFORMATION: Sixteen groundfish species are managed through the Northeast multispecies complex and one species is managed under the Atlantic Sea Scallop FMP. In response to a U.S. district court order, NMFS is re-evaluating the EFH components originally developed as part of Amendment 11 to the Northeast Multispecies FMP and Amendment 9 to the Atlantic Sea Scallop FMP that were approved by the Secretary of Commerce on March 3, 1999. The SEISs will consider EFH and Habitat Areas of Particular Concern (HAPC), as well as fishing and non-fishing threats to EFH as required under the Magnuson-Stevens Fishery Conservation and Management Act.

NMFS is considering the need to revise EFH designations for Northeast multispecies and Atlantic sea scallops based upon any available new scientific information, and is considering potential HAPC designations. NMFS will consider a range of alternatives to minimize adverse effects of fishing activities on EFH.

This analysis and subsequent management alternatives may be presented within separate NEPA documents or may be included within NEPA documents currently being developed by NMFS and the New England Fishery Management Council (Council) for the Northeast Multispecies FMP and Atlantic Sea Scallops FMP.

The public is invited to assist NMFS and the Council in developing the scope of alternatives to be analyzed.

Public Information Meeting

The public scoping meeting will be held on: Thursday, February 22, 2001, from 3-5 p.m., NMFS Northeast Regional Office, 1 Blackburn Drive, Gloucester, MA, Conference Room.

Special Accommodations

This meeting is physically accessible to people with disabilities. Requests for sign language interpretation or other auxiliary aids should be directed to Louis A. Chiarella (see ADDRESSES), (978) 281-9277, at least 5 days prior to the meeting date.

Authority: 16 U.S.C. 1801 et. seq.

Dated: January 26, 2001.
Bruce Morehead,
Acting Director, Office of Sustainable Fisheries National Marine Fisheries Service

[FR Doc. 01-2695 Filed 1-31-01; 8:45 am]

BILLING CODE 3510-22-S